INTERNATIONAL TRADE COMMISSION

Agency Form Submitted for OMB Review

AGENCY: International Trade Commission.

ACTION: Notice.

SUMMARY: The U.S. International Trade Commission (USITC or Commission) has submitted a proposed information collection package to the Office of Management and Budget (OMB) for review and clearance under the Paperwork Reduction Act of 1995, (44 U.S.C. Chap. 35), requesting renewal of a currently approved collection: USITC Reader Satisfaction Survey (OMB No.: 3117-0188). On August 15, 2002, the USITC published in the Federal Register a notice of proposed information collection and request for comments on the USITC Reader Satisfaction Survey. No public comments to the August 15, 2002, Federal Register notice were received by the Commission. The USITC has also conducted a review of the proposed information collection as required by 5 CFR 1320.8.

EFFECTIVE DATE: October 16, 2002.

Purpose of Information Collection: The requested extension of a currently approved collection (one-page survey) is for use by the Commission, and complies with objectives set forth in the Government Performance and Results Act of 1993 (Pub. L. 103-62), to establish measures to improve information on program performance, and specifically, to focus on evaluating results, quality, and customer satisfaction. The one-page survey will be placed inside the cover of certain public reports issued annually or on occasion by the Commission pursuant to section 332 of the Tariff Act of 1930 (19 U.S.C. 1332), and including public reports that meet agency requirements for the USITC Research Program.

Public Comments Regarding the Information Collection: OMB is required to make a decision concerning extension of this currently approved collection between 30 and 60 days after publication of this notice. To be assured of consideration, comments must be received at OMB by the Desk Officer/USITC by November 22, 2002.

ADDRESSES: Comments should be addressed to: Desk Officer for U.S. International Trade Commission, Office of Information and Regulatory Affairs, Office of Management and Budget, Washington, DC 20503 (telephone No. 202-395-3897). Copies of any comments should also be provided to Robert Rogowsky, Director of Operations, U.S. International Trade Commission, 500 E Street, SW., Washington, DC 20436, who is the Commission's designated Senior Official under the Paperwork Reduction Act.

Summary of Proposal

(1) Number of forms submitted: One.

(2) Title of form: USITC Reader Satisfaction Survey.

(3) Type of request: Renewal of a currently approved collection.

(4) Frequency of use: Annual or on occasion information gathering.

(5) Description of Respondents: Interested parties receiving most public reports issued by the USITC, with the exception of Title VII reports.

(6) Estimated number of respondents: 600 annually.

(7) Estimated total number of hours to complete the forms: 100 hours annually.

(8) Recordkeeping burden: There is no retention period for recordkeeping required.

(9) Response burden: Less than 10 minutes for each individual respondent.

(10) Summary of the collection of information: Single-page survey requests readers' comments about value and quality of USITC reports.

(11) Information requested on a voluntary basis is not proprietary in nature, but rather for program evaluation purposes and is not intended to be published. Commission treatment of questionnaire responses will be followed; responses will be aggregated and will not be presented in a manner that will reveal the individual parties that supplied the information.

FOR FURTHER INFORMATION CONTACT: Karl Tsuji, Office of Industries, U.S. International Trade Commission, 500 E Street, SW., Washington, DC 20436 (telephone No. 202-205-3434). Copies of the public notice (Agency Form Submitted for OMB Review) along with the survey and Supporting Statement to be submitted to OMB will be posted on the Commission's World Wide Web site at http://www.usitc.gov/whatsnew.htm or the agency submissions to OMB in connection with this request may be obtained from Karl Tsuji, at the above address or telephone number. Hearing impaired individuals are advised that information on this matter can be obtained by contacting our TDD terminal (telephone No. 202-205-1810).

By order of the Commission.
Issued: October 17, 2002.
Marilyn R. Abbott,
Secretary to the Commission.

[FR Doc. 02-26878 Filed 10-22-02; 8:45 am]

BILLING CODE 7020-02-P